DEPARTMENT OF HOMELAND SECURITY

Federal Emergency Management Agency

[Docket ID: FEMA-2009-0001]

Agency Information Collection Activities: Proposed Collection; Comment Request

AGENCY: Federal Emergency Management Agency, DHS.

ACTION: Notice; 60-day notice and request for comments; revision of a currently approved information collection; OMB No. 1660-0098; FEMA Form 646, Citizen Corps Council Registration.

SUMMARY: The Federal Emergency Management Agency (FEMA), as part of its continuing effort to reduce paperwork and respondent burden, invites the general public and other Federal agencies to take this opportunity to comment on a proposed revision of a currently approved information collection. In accordance with the Paperwork Reduction Act of 1995, this Notice seeks comments concerning the online database of Citizen Corps Councils and Community Emergency Response Team (CERT) so that they can submit profiles via the national Web site. Approved registration of a Council or CERT program allows them to be recognized as official entities listed in the participation directory and become eligible for various Citizen Corps Program benefits.

DATES: Comments must be submitted on or before October 13, 2009.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, WASH, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Kerry Hoerth, Community Preparedness Division Program Specialist, FEMA, 202-786-9775 for additional information. You may contact the Records Management Branch for copies of the proposed collection of information at facsimile number (202) 646-3347 or e-mail address: FEMA-Information-Collections@dhs.gov.

SUPPLEMENTARY INFORMATION: Citizen Corps was launched as a Presidential Initiative, Executive Order 13254, in 2002 with a mission to harness the power of every individual through education, training, and volunteer service to make communities safer, stronger, and better prepared for the threats of terrorism, crime, public health issues, and disasters of all kinds. In order to fulfill its mission, the Federal Emergency Management Agency (FEMA) Community Preparedness Division (CPD) seeks to establish a network of State, local, and Tribal Citizen Corps Councils that will coordinate activities, including Community Emergency Response Teams, at these levels. The Citizen Corps Council Registration Form will allow FEMA and State personnel to ensure that prospective Councils/CERTs have the support of the appropriate government officials in their area, ensure a dedicated coordinator is assigned to the Council, and will provide an efficient way to track the effectiveness of the nationwide network of Councils and CERTs. This revised registration process will allow the Community Preparedness Division to collect information that is more usable and provide a more efficient way to track the effectiveness of the nationwide network of Councils and CERTs and make it easier for Councils to register or update information.

Collection of Information

Title: Citizen Corps Council Registration.

Type of Information Collection: Revision of a currently approved information collection.

OMB Number: OMB No. 1660-0098.

Form Titles and Numbers: FEMA Form 646, Citizen Corps Council Registration.

Abstract: FEMA's Community Preparedness Division would like to revise a currently approved collection for its registration of State, local, Tribal and territorial Councils and Community Emergency Response Teams. The registration process allows for new Councils to submit information on the Council or CERT to the State Citizen Corps Program Manager for approval. The revised registration process will allow for the collection of more valuable information and the tool is more user-friendly for Citizen Corps Councils and CERTs.

Affected Public: State, local or Tribal Government.

Estimated Total Annual Burden Hours: 11,518 burden hours.

Annual Hour Burden

Table A.12—Estimated Annualized Burden Hours and Costs
Type of respondent | Form name/form no. | Number of respondents | Number of responses per respondent | Avg. burden per response (in hours) | Total annual burden (in hours) | Avg. hourly wage rate * | Total Annual respondent cost
State, local or Tribal Government | FEMA-Form | 5759 | 2 | 1 | 11,518 | 22.40 | $258,003.20
Total |  | 5759 |  |  | 11,518 |  | 258,003.20

Estimated Cost: None.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-19155 Filed 8-10-09; 8:45 am]

BILLING CODE 9111-05-P